DEPARTMENT OF LABOR

Office of the Secretary

Submission for OMB Review: Comment Request

March 15, 2010.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Employment and Training Administration (ETA), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension without change of a currently approved collection.

Title of Collection: Financial and Program Reporting and Performance Standards System for Indian and Native American Programs Under Title I, Section 166 of the Workforce Investment Act (WIA).

OMB Control Number: 1205-0422.

Agency Form Number: ETA-9084 and ETA-9085.

Affected Public: State, Local, or Tribal Governments; Private Sector Not-for-profit institutions; and Individuals or Households.

Total Estimated Number of Respondents: 20,747.

Total Estimated Annual Burden Hours: 90,262.

Total Estimated Annual Costs Burden (does not include hour costs): $0.

Description: OMB Control No. 1205-0422 contains two forms: ETA 9084 and 9085. It also includes standard data elements for participants, the basis of the current performance standards system for the Workforce Investment Act of 1998 (WIA) Title I section 166 grantees. The burden estimates for this collection include the Supplemental Youth Services Program and the Comprehensive Services Program authorized under section 166, as well as financial reporting requirements for both funds and the separate reporting for Recovery Act-funded youth programs. For additional information, see related notice published in the Federal Register on November 5, 2009 (74 FR 57333).

Darrin A. King,
Departmental Clearance Officer.

[FR Doc. 2010-9049 Filed 4-19-10; 8:45 am]

BILLING CODE 4510-FN-P